DEPARTMENT OF HEALTH AND HUMAN SERVICES

Food and Drug Administration

[Docket No. FDA-2020-D-1824]

Assessing COVID-19-Related Symptoms in Outpatient Adult and Adolescent Subjects in Clinical Trials of Drugs and Biological Products for COVID-19 Prevention or Treatment; Guidance for Industry; Correction

AGENCY: Food and Drug Administration, HHS.

ACTION: Correction.

SUMMARY: The Food and Drug Administration (FDA) is correcting a notice that appeared in the Federal Register on February 22, 2024. The document announced the availability of a final guidance for industry entitled “Assessing COVID-19-Related Symptoms in Outpatient Adult and Adolescent Subjects in Clinical Trials of Drugs and Biological Products for COVID-19 Prevention or Treatment.” The document was published with an incorrect docket number. This document corrects that error.

FOR FURTHER INFORMATION CONTACT: David Reasner, Center for Drug Evaluation and Research, Food and Drug Administration, 10903 New Hampshire Ave., Bldg. 22, Rm. 6373, Silver Spring, MD 20993, 301-837-7667; or James Myers, Center for Biologics Evaluation and Research, Food and Drug Administration, 10903 New Hampshire Ave., Bldg. 71, Rm. 7301, Silver Spring, MD 20993-0002, 240-402-7911.

SUPPLEMENTARY INFORMATION: In the Federal Register of February 22, 2024 (89 FR 13351), in FR Doc. 2024-03622, the following correction is made:

On page 13351, in the first column in the header of the document and in the third column in the second line of the first paragraph, “Docket No. FDA-2024-D-0584” is corrected to read “Docket No. FDA-2020-D-1824.”

Dated: March 5, 2024.
Lauren K. Roth,
Associate Commissioner for Policy.

[FR Doc. 2024-05081 Filed 3-8-24; 8:45 am]

BILLING CODE 4164-01-P